DEPARTMENT OF ENERGY

Federal Energy Regulatory Commission

[Docket No. CP00-142-000]

Columbia Gas Transmission Corporation; Notice of Request Under Blanket Authorization

April 5, 2000.

Take notice that on March 29, 2000, Columbia Gas Transmission Corporation (Columbia), 12801 Fair Lakes Parkway, Fairfax, Virginia 22030-1046, filed a request with the Commission in Docket No. CP00-142-000, pursuant to section 157.205 and 157.21(b) of the Commission's Regulations under the Natural Gas Act (NGA) for authorization to abandon approximately 410 feet of 2-inch pipeline, appurtenances, and a point of delivery to Columbia Gas of Virginia, Inc. (CGV), all located in Fauquier County, Virginia authorized in blanket certificate issued in Docket No. CP83-76-000, all as more fully set forth in the request on file with the Commission and open to public inspection. This filing may be viewed on the web at http://www.ferc.fed.us/online/rims.htm (call 202-208-2222 for assistance).

There are no other points of delivery associated with this section of pipeline. The proposed abandonment will not result in any loss or reduction in service to any customers.

Any person or the Commission's staff may, within 45 days after the Commission has issued this notice, file pursuant to Rule 214 of the Commission's Procedural Rules (18 CFR 385.214) a motion to intervene or notice of intervention and pursuant to Section 157.205 of the Regulations under the NGA (18 CFR 157.205) a protest to the request. If no protest is filed within the allowed time, the proposed activity shall be deemed to be authorized effective the day after the time allowed for filing a protest. If a protest is filed and not withdrawn within 30 days after the time allowed for filing a protest, the instant request shall be treated as an application for authorization pursuant to Section 7 of the NGA.

Linwood A. Watson, Jr.,
Acting Secretary.

[FR Doc. 00-8900 Filed 4-10-00; 8:45 am]

BILLING CODE 6717-01-M